DEPARTMENT OF STATE

[Public Notice:11035]

Notice of Intent To Request Emergency Processing of Information Collection: Public Charge Questionnaire

ACTION: Public notice.

SUMMARY: The Department of State intends to seek emergency processing of proposed form DS-5540, Public Charge Questionnaire from the Office of Management and Budget (OMB). The Department will seek OMB approval of the form by February 24, 2020, so that the Department can implement its interim final rule on the public charge ground of visa ineligibility on this date. The Department also intends to respond, in the supporting statement drafted in support of the request for OMB approval, to public comments that it received in response to its request for public comments on the same form DS-5540 that was published in the Federal Register on October 24. The Department will publish another notice in the Federal Register once it has requested emergency processing from OMB.

FOR FURTHER INFORMATION CONTACT: Direct requests for additional information regarding the collection listed in this notice, including requests for copies of the proposed collection instrument and supporting documents to Taylor Beaumont, Acting Chief, Legislation and Regulations Division, Visa Services, Bureau of Consular Affairs, Department of State, 600 19th St. NW, Washington, DC 20006, (202) 485-8910, VisaRegs@state.gov.

SUPPLEMENTARY INFORMATION:

Abstract

On October 24, 2019, the Department published a notice in the Federal Register to announce that it was seeking OMB approval of the DS-5540, Public Charge Questionnaire, and invited public comment for a 60-day period. The 60-day comment period ended on December 23, 2019, and the Department received 92 comments. Approval of this form will permit the Department to implement the Department's interim final rule on public charge published on October 11, 2019.

The Department of Homeland Security has announced that it will begin implementation of its final rule on the public charge ground of inadmissibility on February 24, 2020, in all states other than Illinois. The Department now intends to seek emergency processing of the DS-5540 pursuant to 5 CFR 1320.13, because there is insufficient time to complete the ongoing process for OMB form approval under 5 CFR 1320.10 prior to February 24, 2020. The Department seeks to align the Department's standards with those of the Department of Homeland Security, to avoid situations where a consular officer will evaluate an alien's circumstances and conclude that the alien is not likely at any time to become a public charge, only for the Department of Homeland Security to evaluate the same alien when he seeks admission to the United States on the visa issued by the Department of State and find the alien inadmissible on public charge grounds under the same facts.

Carl C. Risch,
Assistant Secretary, Bureau of Consular Affairs, Department of State.

[FR Doc. 2020-02866 Filed 2-11-20; 8:45 am]

BILLING CODE 4710-06-P